DEPARTMENT OF COMMERCE

National Oceanic and Atmospheric Administration

RIN 0648-XF023

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold eight public hearings and one webinar to solicit public comments on Coastal Migratory Pelagics (CMP) Amendment 29—Allocation Sharing and Accountability Measures for the Gulf of Mexico Migratory Group of King Mackerel.

DATES: The public hearings will be held November 30-December 8, 2016. The meetings will begin at 6 p.m. and will conclude no later than 9 p.m. For specific dates and times, see SUPPLEMENTARY INFORMATION.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in Tampa, Key West and Panama City, FL; Port Aransas and Galveston, TX; Pascagoula, MS; Mobile, AL; Houma, LA; and one webinar. For specific locations, see SUPPLEMENTARY INFORMATION.

Public comments: Comments may be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following eight hearings and one webinar are as follows: Council staff will brief the public on CMP Amendment 29—Allocation Sharing and Accountability Measures for the Gulf of Mexico Migratory Group of King Mackerel. Staff will then open the meeting for questions and public comments. The schedule is as follows:

Locations, Schedules, and Agendas

Wednesday, November 30, 2016; Hilton Tampa Westshore Airport hotel, 2225 N. Lois Avenue, Tampa, FL 33607; telephone: (813) 877-6688;

Thursday, December 1, 2016; Harvey Government Center, 1200 N. Truman Avenue, Key West, FL 33040; telephone: (305) 295-4385;

Monday, December 5, 2016; Hampton Inn & Suites, 2208 Highway 361, Port Aransas, TX 78373; telephone: (361) 749-8888; Hilton Garden Inn, 2703 Denny Avenue, Pascagoula, MS 39563; telephone: (228) 762-7182;

Tuesday, December 6, 2016; Hilton Galveston Island, 5400 Seawall Boulevard, Galveston, TX 77551; telephone: (409) 744-5000; Renaissance Mobile Riverview Plaza Hotel, 64 South Water Street, Mobile, AL 36602; telephone: (251) 438-4000;

Wednesday, December 7, 2016; Marriott Courtyard, 142 Library Drive, Houma, LA 70360; telephone: (985) 223-8996; Hilton Garden Inn, 1101 North U.S. Highway 231, Panama City, FL 32405; telephone: (850) 392-1093;

Thursday, December 8, 2016, Webinar—6 p.m. EST at: https://attendee.gotowebinar.com/register/1169421153446562050

After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: November 2, 2016.
Tracey L. Thompson,
Acting Deputy Director, Office of Sustainable Fisheries, National Marine Fisheries Service.

[FR Doc. 2016-26857 Filed 11-4-16; 8:45 am]

BILLING CODE 3510-22-P